DEPARTMENT OF THE INTERIOR

National Park Service

[NPS-WASO-NAGPRA-11886; 2200-1100-665]

Notice of Inventory Completion: Illinois State Museum, Springfield, IL

AGENCY: National Park Service, Interior.

ACTION: Notice.

SUMMARY: The Illinois State Museum has completed an inventory of human remains, in consultation with the appropriate Indian tribes, and has determined that there is a likely cultural affiliation between the human remains and present-day Indian tribes. Representatives of any Indian tribe that believes itself to be culturally affiliated with the human remains may contact the Illinois State Museum. Repatriation of the human remains to the Indian tribes stated below may occur if no additional claimants come forward.

DATES: Representatives of any Indian tribe that believes it has a cultural affiliation with the human remains should contact the Illinois State Museum at the address below by February 11, 2013.

ADDRESSES: Dr. Robert E. Warren, Curator of Anthropology, Illinois State Museum, 1011 East Ash Street, Springfield, IL 62703-3500, telephone (217) 524-7903.

SUPPLEMENTARY INFORMATION: Notice is here given in accordance with the Native American Graves Protection and Repatriation Act (NAGPRA), 25 U.S.C. 3003, of the completion of an inventory of human remains under the control of the Illinois State Museum, Springfield, IL.

This notice is published as part of the National Park Service's administrative responsibilities under NAGPRA, 25 U.S.C. 3003(d)(3). The determinations within this notice are the sole responsibility of the museum, institution, or Federal agency that has control of the Native American human remains. The National Park Service is not responsible for the determinations within this notice.

Consultation

A detailed assessment of the human remains was made by Illinois State Museum professional staff in consultation with representatives of the Ho-Chunk Nation of Wisconsin; Iowa Tribe of Kansas and Nebraska; Iowa Tribe of Oklahoma; Otoe-Missouria Tribe of Indians, Oklahoma; and the Winnebago Tribe of Nebraska.

History and Description of the Remains

In September 2011, human remains representing, at minimum, one individual were recovered during Phase II archaeological excavations conducted by the Illinois State Archaeological Survey (ISAS) at the Joe Louis site (11CK284), located on the right bank of the Little Calumet River in Cook County, IL. Human remains consisting of one cranial fragment (frontal bone) were found in the fill of a prehistoric pit (Feature 47) that evidently had a domestic function and was not a formal human interment. The human remains were identified by an ISAS skeletal analyst. In October 2011, the human remains were transferred to the Illinois State Museum (ISM 2011-143) in compliance with the state's Human Skeletal Remains Protection Act (20 ILCS 3440). No known individual was identified. No associated funerary objects are present.

Archaeological records, oral traditions, and linguistic relationships suggest that the human remains may be ancestral Winnebago (Ho-Chunk). First, the Joe Louis site is a single-component occupation of the Fisher phase (circa A.D. 1000-1400), a “developmental” phase of the broader Oneota tradition that likely evolved into the “classic” Oneota Huber phase (A.D. 1400-1625). Huber ceramics are similar to ceramics made by the Iowa tribe, and there is widespread agreement that Huber and some other Oneota phases were ancestral to the Iowa, Otoe, Missouria, and Winnebago (Ho-Chunk) tribes. Second, Winnebago oral traditions record a protohistoric Ho-Chunk village (Gušge hon☐k, or “skunk run”) in the general vicinity of the Joe Louis site. Third, language similarities indicate that the Chiwere-speaking Iowa, Otoe, and Missouria tribes split from the Winnebago tribe at about A.D. 1600, several centuries after the Joe Louis site was occupied. In conclusion, human remains from the Joe Louis site have a plausible shared group identity with all of the Chiwere-Winnebago speaking tribes (i.e. Ho-Chunk, Iowa, Otoe, Missouria, Winnebago).

The archaeological and geographical context of human remains from the Joe Louis site indicate that the individual is Native American. The Chiwere-Winnebago tribes are represented by five present-day Indian tribes: the Ho-Chunk Nation of Wisconsin; Iowa Tribe of Kansas and Nebraska; Iowa Tribe of Oklahoma; Otoe-Missouria Tribe of Indians, Oklahoma; and the Winnebago Tribe of Nebraska.

Determinations Made by the Illinois State Museum, Springfield, IL

Officials of the Illinois State Museum have determined that:

• Pursuant to 25 U.S.C. 3001(9), the human remains described above represent the physical remains of one individual of Native American ancestry.

• Pursuant to 25 U.S.C. 3001(2), there is a plausible relationship of shared group identity that can be reasonably traced between the Ho-Chunk Nation of Wisconsin; Iowa Tribe of Kansas and Nebraska; Iowa Tribe of Oklahoma; Otoe-Missouria Tribe of Indians, Oklahoma; and the Winnebago Tribe of Nebraska.

Additional Requestors and Disposition

Representatives of any other Indian tribe that believes itself to be culturally affiliated with the human remains should contact Dr. Robert E. Warren, Curator of Anthropology, Illinois State Museum, 1011 East Ash Street, Springfield, IL 62703-3500, telephone (217) 524-7903, before February 11, 2013. Repatriation of the human remains to the Ho-Chunk Nation of Wisconsin; Iowa Tribe of Kansas and Nebraska; Iowa Tribe of Oklahoma; Otoe-Missouria Tribe of Indians, Oklahoma; and the Winnebago Tribe of Nebraska may proceed after that date if no additional claimants come forward.

The Illinois State Museum is responsible for notifying the Ho-Chunk Nation of Wisconsin; Iowa Tribe of Kansas and Nebraska; Iowa Tribe of Oklahoma; Otoe-Missouria Tribe of Indians, Oklahoma; and the Winnebago Tribe of Nebraska that this notice has been published.

Dated: December 7, 2012.
Melanie O'Brien,
Acting Manager, National NAGPRA Program.

[FR Doc. 2013-00446 Filed 1-10-13; 8:45 am]

BILLING CODE 4312-50-P